DEPARTMENT OF COMMERCE

National Oceanic and Atmospheric Administration

RIN 0648-XG681

Pacific Fishery Management Council; Public Meetings and Hearings

AGENCY: National Marine Fisheries Service (NMFS), National Oceanic and Atmospheric Administration (NOAA), Commerce.

ACTION: Notice of availability of reports; public meetings, and hearings.

SUMMARY: The Pacific Fishery Management Council (Pacific Council) has begun its annual preseason management process for the 2019 ocean salmon fisheries. This document announces the availability of Pacific Council documents as well as the dates and locations of Pacific Council meetings and public hearings comprising the Pacific Council's complete schedule of events for determining the annual proposed and final modifications to ocean salmon fishery management measures. The agendas for the March and April 2019 Pacific Council meetings will be published in subsequent Federal Register documents prior to the actual meetings.

DATES: Written comments on the salmon management alternatives must be received by 5 p.m. Pacific Time, April 1, 2019.

ADDRESSES: Documents will be available from the Pacific Fishery Management Council, 7700 NE Ambassador Place, Suite 101, Portland, OR 97220-1384, telephone: (503) 820-2280 (voice) or (503) 820-2299 (fax). Written comments should be sent electronically to Mr. Phil Anderson, Chair, Pacific Fishery Management Council, via the Pacific Council's E-Portal by visiting https://pfmc.psmfc.org. Comments can also be submitted through the Federal Rulemaking E-Portal: http://www.regulations.gov. Follow the instructions for submitting comments, and include the I.D. number in the subject line of the message. If you are unable to access either E-Portal, written comments may be mailed to Mr. Phil Anderson at the Pacific Fishery Management Council office address stated above. Written comments will then be entered into the Pacific Council's E-Portal by Council staff. For specific meeting and hearing locations, see SUPPLEMENTARY INFORMATION.

Council address: Pacific Fishery Management Council, 7700 NE Ambassador Place, Suite 101, Portland, OR 97220.

FOR FURTHER INFORMATION CONTACT: Ms. Robin Ehlke, telephone: (503) 820-2280.

SUPPLEMENTARY INFORMATION:

Tentative Schedule for Document Completion and Availability

February 15, 2019: “Review of 2018 Ocean Salmon Fisheries, Stock Assessment and Fishery Evaluation Document for the Pacific Coast Salmon Fishery Management Plan” is scheduled to be posted on the Pacific Council website at http://www.pcouncil.org.

March 1, 2019: “Preseason Report I-Stock Abundance Analysis and Environmental Assessment Part 1 for 2019 Ocean Salmon Fishery Regulations” is scheduled to be posted on the Pacific Council website at http://www.pcouncil.org.

March 21, 2019: “Preseason Report II-Proposed Alternatives and Environmental Assessment Part 2 for 2019 Ocean Salmon Fishery Regulations” and public hearing schedule is scheduled to be posted on the Pacific Council website at http://www.pcouncil.org. The report will include a description of the adopted salmon management alternatives and a summary of their biological and economic impacts.

April 23, 2019: “Preseason Report III—Council-Adopted Management Measures and Environmental Assessment Part 3 for 2019 Ocean Salmon Fishery Regulations” is scheduled to be posted on the Pacific Council website at http://www.pcouncil.org.

May 1, 2019: Federal regulations for 2019 ocean salmon regulations are published in the Federal Register and implemented.

Meetings and Hearings

January 22-25, 2019: The Salmon Technical Team (STT) will meet at the Council office in a public work session to draft “Review of 2018 Ocean Salmon Fisheries, Stock Assessment and Fishery Evaluation Document for the Pacific Coast Salmon Fishery Management Plan” and to consider any other estimation or methodology issues pertinent to the 2019 ocean salmon fisheries. The STT may also discuss and work on salmon rebuilding plans as time allows.

February 19-22, 2019: The STT will meet at the Council office in a public work session to draft “Preseason Report I-Stock Abundance Analysis and Environmental Assessment Part 1 for 2019 Ocean Salmon Fishery Regulations” and to consider any other estimation or methodology issues pertinent to the 2019 ocean salmon fisheries. The STT may also discuss and work on salmon rebuilding plans as time allows.

March 25-26, 2019: Public hearings will be held to receive comments on the proposed ocean salmon fishery management alternatives adopted by the Pacific Council. Written comments received at the public hearings and a summary of oral comments heard at the hearings will be provided to the Pacific Council at its April meeting.

All public hearings begin at 7 p.m. on the dates and locations specified below:

• March 25, 2019: Chateau Westport, Beach Room, 710 West Hancock, Westport, WA 98595, telephone: (360) 268-9101.

• March 25, 2019: Red Lion Hotel, South Umpqua Room, 1313 North Bayshore Drive, Coos Bay, OR 97420, telephone: (541) 267-4141.

• March 26, 2019: Hampton Inn, Grand Ballroom, 1160 Airport Park Blvd., Ukiah, CA 95482, telephone: (707) 462-6555.

Although non-emergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT's intent to take final action to address the emergency.

Special Accommodations

These public meetings and hearings are physically accessible to people with disabilities. Requests for sign language interpretation or other auxiliary aids should be directed to Mr. Kris Kleinschmidt at (503) 820-2280 (voice), or (503) 820-2299 (fax) at least 10 days prior to the meeting date.

Authority: 16 U.S.C. 1801 et seq.

Dated: February 6, 2019.
Tracey L. Thompson,
Acting Deputy Director, Office of Sustainable Fisheries, National Marine Fisheries Service.

[FR Doc. 2019-01875 Filed 2-8-19; 8:45 am]

BILLING CODE 3510-22-P